ENVIRONMENTAL PROTECTION AGENCY

40 CFR Part 52

[EPA-R04-OAR-2008-0115-200806; FRL-8570-1]

Approval and Promulgation of Implementation Plans South Carolina: Interstate Transport of Pollution

AGENCY: Environmental Protection Agency (EPA).

ACTION: Proposed rule.

SUMMARY: EPA is proposing to approve a State Implementation Plan (SIP) revision submitted by the South Carolina Department of Health and Environmental Control (SC DHEC), on June 25, 2007, pursuant to the requirements of section 110(a)(2)(D)(i) of the Clean Air Act (CAA). Section 110(a)(2)(D)(i) of the CAA requires each state to submit a SIP revision within three years of a revision to the national ambient air quality standards (NAAQS). The SIP revision must include provisions adequate to address emissions that may adversely affect another state's air quality through interstate transport of the revised NAAQS pursuant to the CAA. On July 18, 1997, EPA published revisions to the NAAQS for ozone and fine particulate matter (PM2.5). SC DHEC's June 25, 2007, SIP revision addresses the elements required by section 110(a)(2)(D)(i) of the CAA with regard to ozone and PM2.5, and as a result, it is approvable.

DATES: Comments must be received on or before June 23, 2008.

ADDRESSES: Submit your comments, identified by Docket ID No. EPA-R04-OAR-2008-0115, by one of the following methods:

1. http://www.regulations.gov: Follow the on-line instructions for submitting comments.

2. E-mail: Harder.Stacy@epa.gov.

3. Fax: (404) 562-9019.

4. Mail: EPA-R04-OAR-2008-0115, Regulatory Development Section, Air Planning Branch, Air, Pesticides and Toxics Management Division, U.S. Environmental Protection Agency, Region 4, 61 Forsyth Street, SW., Atlanta, Georgia 30303-8960.

5. Hand Delivery or Courier: Stacy Harder, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to Docket ID No. EPA-R04-OAR-2008-0115. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Ms. Stacy Harder of the Regulatory Development Section at the Air Planning Branch, Air, Pesticides and Toxics Management Division, U.S. Environmental Protection Agency, Region 4, 61 Forsyth Street, SW., Atlanta, Georgia 30303-8960. Ms. Harder's telephone number is (404) 562-9042. She can also be reached via electronic mail at harder.stacy@epa.gov. For further information relating to the South Carolina SIP, please contact Ms. Nacosta Ward. Ms. Ward can be reached at (404) 562-9140, or ward.nacosta@epa.gov.

Table of Contents

I. What Is the Background for EPA's Action?

II. Proposed Action

III. Statutory and Executive Order Reviews

SUPPLEMENTARY INFORMATION:

I. What Is the Background for EPA's Action?

EPA is proposing to approve a SIP revision submitted by SC DHEC on June 25, 2007. This SIP revision addresses the requirements of CAA section 110(a)(2)(D)(i). This SIP revision was public noticed on April 25, 2007, and a public hearing was held on May 30, 2007; no comments were received.

Section 110(a)(1) of the CAA requires that each state submit to EPA a SIP revision within three years after promulgation of a NAAQS. Section 110(a)(2)(D)(i) requires that the aforementioned SIP contain adequate provisions to prohibit any source or other type of emissions activity within the state from emitting any air pollutant in amounts which will:

(I) contribute significantly to nonattainment in, or interfere with maintenance by, any other State with respect to any such national primary or secondary ambient air quality standard, or (II) interfere with measures required to be included in the applicable implementation plan for any other State under part C of this subchapter to prevent significant deterioration of air quality or to protect visibility * * *

CAA section 110(a)(2)(D)(i)(I) and (II). The provision quoted above can be described as including four separate but related elements that an applicable SIP revision should include: (1) Provisions prohibiting a state from contributing significantly to nonattainment of the NAAQS for areas in another state; (2) provisions prohibiting interference with maintenance of the NAAQS in another state; (3) provisions prohibiting interference with measures required to meet implementation plan requirements related to prevention of significant deterioration (PSD) for any other state; and (4) provisions prohibiting interference with measures required to meet implementation plan requirements related to regional haze for any other state.

On July 18, 1997, EPA published revisions to the NAAQS for ozone (62 FR 2) and PM2.5 (62 FR 38652). The current SIP revision by South Carolina is intended to satisfy the requirements of Section 110(a)(2)(D)(i) of the CAA for the 1997 ozone and PM2.5 NAAQS. As is described below, the current SIP revision by South Carolina adequately addresses all four sub-elements of section 110(a)(2)(D)(i) of the CAA, and is therefore approvable.

The first two sub-elements of section 110(a)(2)(D)(i) of the CAA regard the prohibition of one state from interfering with maintenance or attainment of a NAAQS in another state. These first two sub-elements of Section 110(a)(2)(D)(i) were met by South Carolina's SIP revision regarding EPA's Clean Air Interstate Rule (CAIR). EPA promulgated CAIR on May 12, 2005 (70 FR 25162). CAIR requires certain states to reduce emissions of sulfur dioxide (SO2) and nitrogen oxides (NOX) that significantly contribute to, and interfere with maintenance of, the NAAQS for PM2.5 and/or ozone in any downwind state, thus addressing the two revised NAAQS pollutants at issue as well as the issue of interstate interference with maintenance or attainment of the NAAQS. CAIR established state budgets for SO2 and NOX and requires states to submit SIP revisions that implement these budgets in states that EPA concluded did contribute to nonattainment in other states.

South Carolina is a CAIR-State for both ozone and PM2.5 (see 60 FR 25162, May 12, 2005). Because South Carolina adopted CAIR, EPA has already concluded that South Carolina can meet its section 110(a)(2)(D)(i) obligations to address the significant contribution and interference with maintenance requirements by complying with the CAIR requirements. EPA published a direct final action approving the South Carolina CAIR SIP revision for its allocation methodology on October 9, 2007 (72 FR 57257). In addition, South Carolina remains covered by the CAIR Federal Implementation Plan (FIP) for the remainder of its trading program. Therefore, EPA has determined that through the above actions, South Carolina has adequately addressed the first two sub-elements of the CAA section 110(a)(2)(D)(i) requirements (i.e., to prevent emissions that contribute significantly to other state's nonattainment of, or interfere with the maintenance of, the NAAQS).

The third CAA section 110(a)(2)(D)(i) sub-element addressed by South Carolina in its June 25, 2007, submittal relates to the prevention of significant deterioration (PSD) program. For ozone and PM2.5, South Carolina has met its obligation by confirming that major sources in the State are currently subject to PSD and/or Nonattainment New Source Review programs that implement the 1997 8-hour ozone standard and the PM2.5 standard.

The fourth CAA section 110(a)(2)(D)(i) sub-element regards visibility. South Carolina addressed this fourth sub-element through its SIP submittal describing its Regional Haze Implementation Plan. This revision was submitted to EPA on December 17, 2007.

II. Proposed Action

EPA is now proposing to approve South Carolina's CAA section 110(a)(2)(D)(i) SIP revision submitted on June 25, 2007. EPA has reviewed South Carolina's 110(a)(2)(D)(i) revision and has found that it is consistent with the relevant CAA requirements as discussed above.

III. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulphur oxides, Volatile organic compounds.

Authority: 42 U.S.C. 7401 et seq.

Dated: May 9, 2008.
J.I. Palmer, Jr.,
Regional Administrator, Region 4.

[FR Doc. E8-11484 Filed 5-21-08; 8:45 am]

BILLING CODE 6560-50-P